DEPARTMENT OF TRANSPORTATION

Federal Aviation Administration

14 CFR Part 39

[Docket No. FAA-2015-8428; Directorate Identifier 2014-NM-032-AD]

RIN 2120-AA64

Airworthiness Directives; Airbus Airplanes

AGENCY: Federal Aviation Administration (FAA), DOT.

ACTION: Notice of proposed rulemaking (NPRM).

SUMMARY: We propose to supersede Airworthiness Directive (AD) 2011-17-09 for all Airbus Model A330-200 series airplanes, -200 Freighter series airplanes, and -300 series airplanes, and AD 2012-25-12, for all Airbus Model A330-200 series airplanes and -300 series airplanes. AD 2011-17-09 currently requires revisions to certain operator maintenance documents to include new inspections. AD 2012-25-12 currently requires replacing certain main landing gear (MLG) bogie beams before reaching new reduced life limits. Since we issued AD 2011-17-09 and AD 2012-25-12, we have determined that more restrictive instructions and/or airworthiness limitations should be incorporated into the maintenance or inspection program, as applicable. This proposed AD would require revising the maintenance or inspection program, as applicable, to incorporate new or revised airworthiness limitation requirements. This AD results from revisions to the Airworthiness Limitations section (ALS) of the Instructions for Continued Airworthiness (ICA) to include new or more restrictive life limits and/or replacements. We are proposing this AD to detect and correct fatigue cracking, accidental damage, or corrosion in principal structural elements, and possible failure of certain life limited parts, which could result in reduced structural integrity of the airplane.

DATES: We must receive comments on this proposed AD by February 29, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-8428; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Comments Invited

We invite you to send any written relevant data, views, or arguments about this proposed AD. Send your comments to an address listed under the ADDRESSES section. Include “Docket No. FAA-2015-8428; Directorate Identifier 2014-NM-032-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 2, 2011, we issued AD 2011-17-09, Amendment 39-16773 (76 FR 53305, August 26, 2011). AD 2011-17-09 requires actions intended to address an unsafe condition on all Airbus Model A330-200 series airplanes, -200 Freighter series airplanes, and -300 series airplanes. On December 5, 2012, we issued AD 2012-25-12, Amendment 39-17293 (77 FR 75825, December 26, 2012). AD 2012-25-12 requires actions intended to address an unsafe condition for all Airbus Model A330-200 series airplanes and -300 series airplanes.

Since we issued AD 2011-17-09, Amendment 39-16773 (76 FR 53305, August 26, 2011), and AD 2012-25-12, Amendment 39-17293 (77 FR 75825, December 26, 2012), we have determined that more restrictive instructions and/or airworthiness limitations should be incorporated into the maintenance or inspection program, as applicable.

The European Aviation Safety Agency (EASA), which is the Technical Agent for the Member States of the European Union, has issued EASA Airworthiness Directive, 2014-0009, dated January 8, 2014 (referred to after this as the Mandatory Continuing Airworthiness Information, or “the MCAI”), to correct an unsafe condition for all Airbus Model A330-200 series airplanes, -200 Freighter series airplanes, and -300 series airplanes. The MCAI states:

The airworthiness limitations for Airbus aeroplanes are currently published in Airworthiness Limitations Section (ALS) documents.

The instructions and airworthiness limitations applicable to the Safe Life Airworthiness Limitation Items (SL ALI) are given in Airbus A330 ALS Part 1 and A340 ALS Part 1, which are approved by EASA.

The revision 07 of Airbus A330 and A340 ALS Part 1 [dated September 23, 2013] introduces more restrictive instructions and/or airworthiness limitations. Failure to comply with this revision could result in an unsafe condition.

For the reason described above, this [EASA] AD retains the requirements of EASA AD 2012-0179 [http://ad.easa.europa.eu/blob/easa_ad_2012_0179_superseded.pdf/AD_2012-0179_1], which is superseded, and requires accomplishment of the actions specified in Airbus A330 or A340 ALS Part 1 revision 07 [dated September 23, 2013].

In addition, this [EASA] AD also supersedes EASA AD 2011-0122-E [http://ad.easa.europa.eu/blob/easa_ad_2011_0122_E_superseded.pdf/EAD_2011-0122-E_1] and EASA AD 2011-0212 [http://ad.easa.europa.eu/blob/easa_ad_2011_0212_superseded.pdf/AD_2011-0212_1], whose requirements have been transferred into Airbus A330 and A340 ALS Part 1 revision 07 [dated September 23, 2013].

The unsafe condition is fatigue cracking, damage, and corrosion in certain principal structural elements, and possible failure of certain life limited parts, which could result in reduced structural integrity of the airplane. This proposed AD would require revising the maintenance or inspection program, as applicable, to incorporate new or revised structural inspection requirements. You may examine the MCAI in the AD docket on the Internet at http://www.regulations.gov by searching for and locating Docket No. FAA-2015-8428.

Related Service Information Under 1 CFR Part 51

Airbus has issued Airbus A330 ALS Part 1, ”Safe Life Airworthiness Limitation Items,” Revision 07, dated September 23, 2013. The service information describes Safe Life Airworthiness Limitation Items (SL ALI) for the landing gear.

Airbus has also issued the following variations, which describe SL ALIs.

• Airbus A330 Variation to Revision 07 of ALS Part 1, “Safe Life Airworthiness Limitations Items (SL ALI),” dated September 24, 2013 (variations reference 0GVLG130005C0S, dated October 29, 2013).

• Airbus A330, “Safe Life Airworthiness Limitations Items (SL ALI),” Variation 7.6, dated February 24, 2015.

• Airbus A330, “Safe Life Airworthiness Limitations Items (SL ALI),” Variation 7.10, dated April 1, 2015.

• Airbus A330, “Safe Life Airworthiness Limitations Items (SL ALI),” Variation 7.19, dated June 8, 2015.

• Airbus A330, “Safe Life Airworthiness Limitations Items (SL ALI),” Variation 7.20, dated August 28, 2015.

• Airbus A330, “Safe Life Airworthiness Limitations Items (SL ALI),” Variation 7.21, dated September 14, 2015.

• Airbus A330, “Safe Life Airworthiness Limitations Items (SL ALI),” Variation 7.22, dated June 8, 2015.

• Airbus A330, “Safe Life Airworthiness Limitations Items (SL ALI),” Variation 7.23, dated August 31, 2015.

• Airbus A330, “Safe Life Airworthiness Limitations Items (SL ALI),” Variation 7.24, dated September 21, 2015.

This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (m) of this proposed AD. The request should include a description of changes to the required actions that will ensure the continued damage tolerance of the affected structure.

Differences Between This Proposed AD and the MCAI or Service Information

Although the applicability in the MCAI also identifies Airbus Model A340-200, -300, -500, and -600 series airplanes, this AD applies only to Airbus Model A330-200, -200 Freighter series airplanes, and -300 series airplanes. However, we might consider future separate rulemaking to require incorporating Airbus A340 ALS Part 1, ”Safe Life Airworthiness Limitation Items,” Revision 07, dated September 23, 2013, into the maintenance program or inspection program, as applicable. There are currently no Airbus Model A340 series airplanes on the U.S. Registry.

Costs of Compliance

We estimate that this proposed AD affects 82 airplanes of U.S. registry.

The actions that are required by AD 2011-17-09, Amendment 39-16773 (76 FR 53305, August 26, 2011), and retained in this proposed AD take about 1 work-hour per product, at an average labor rate of $85 per work-hour. Based on these figures, the estimated cost of the actions that were required by AD 2011-17-09 is $85 per product.

The actions that are required by AD 2012-25-12, Amendment 39-17293 (77 FR 75825, December 26, 2012), and retained in this proposed AD take about 16 work-hours per product (2 MLG bogie beams per airplane), at an average labor rate of $85 per work-hour. Required parts cost about $255,000 per MLG bogie beam. Based on these figures, the estimated cost of the actions that were required by AD 2012-25-12 is up to $256,360 per MLG bogie beam.

We also estimate that it would take about 1 work-hour per product to comply with the basic requirements of this proposed AD. The average labor rate is $85 per work-hour. Based on these figures, we estimate the cost of this proposed AD on U.S. operators to be $6,970, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-17-09, Amendment 39-16773 (76 FR 53305, August 26, 2011); and AD 2012-25-12, Amendment 39-17293 (77 FR 75825, December 26, 2012); and adding the following new AD:

Airbus: Docket No. FAA-2015-8428; Directorate Identifier 2014-NM-032-AD.

(a) Comments Due Date

We must receive comments by February 29, 2016.

(b) Affected ADs

This AD replaces AD 2011-17-09, Amendment 39-16773 (76 FR 53305, August 26, 2011); and AD 2012-25-12, Amendment 39-17293 (77 FR 75825, December 26, 2012).

(c) Applicability

This AD applies to all the Airbus airplanes identified in paragraphs (c)(1), (c)(2), and (c)(3) of this AD, certificated in any category, all manufacturer serial numbers.

(1) Airbus Model A330-201, -202, -203, -223, and -243 airplanes.

(2) Airbus Model A330-223F and -243F airplanes,

(3) Airbus Model A330-301, -302, -303, -321, -322, -323, -341, -342, and -343 airplanes.

(d) Subject

Air Transport Association (ATA) of America Code 05, Periodic inspections.

(e) Reason

This AD was prompted by a revision of certain airworthiness limitations items (ALI) documents, which specify more restrictive instructions and/or airworthiness limitations. We are issuing this AD to detect and correct fatigue cracking, accidental damage, or corrosion in principal structural elements, and possible failure of certain life limited parts, which could result in reduced structural integrity of the airplane.

(f) Compliance

Comply with this AD within the compliance times specified, unless already done.

(g) Retained Maintenance Program Revision, With New Terminating Action

This paragraph restates the requirements of paragraph (h) of AD 2011-17-09, Amendment 39-16773 (76 FR 53305, August 26, 2011), with new terminating action. Within 3 months after September 30, 2011 (the effective date of AD 2011-17-09): Revise the maintenance program by incorporating Airbus A330 ALS Part 1, ”Safe Life Airworthiness Limitation Items,” Revision 05, dated July 29, 2010. Comply with all Airbus A330 ALS Part 1, ”Safe Life Airworthiness Limitation Items,” Revision 05, dated July 29, 2010, at the times specified therein. Accomplishing the actions specified in paragraph (k) of this AD terminates the requirements of this paragraph.

(h) Retained Alternative Intervals or Limits, With No Changes

This paragraph restates the requirements of paragraph (i) of AD 2011-17-09, Amendment 39-16773 (76 FR 53305, August 26, 2011), with no changes. Except as provided by paragraph (m) of this AD, after accomplishment of the actions specified in paragraph (g) of this AD, no alternatives to the maintenance tasks, intervals, or limitations specified in paragraph (g) of this AD may be used.

(i) Retained Bogie Beam Replacement, With Specific Delegation Approval Language and New Terminating Action

This paragraph restates the requirements of paragraph (g) of AD 2012-25-12, Amendment 39-17293 (77 FR 75825, December 26, 2012), with specific delegation approval language and terminating action. For airplanes identified in paragraphs (c)(1) and (c)(3) of this AD, at the later of the times specified in paragraphs (i)(1) and (i)(2) of this AD: Replace all main landing gear (MLG) bogie beams having part number (P/N) 201485300, 201485301, 201272302, 201272304, 201272306, or 201272307, except those that have serial number (S/N) S2A, S2B, or S2C, as identified in Messier-Dowty Service Letter A33-34 A20, Revision 5, including Appendices A through F, dated July 31, 2009, with a new or serviceable part, using a method approved by the Manager, International Branch, ANM-116, Transport Airplane Directorate, FAA, or the European Aviation Safety Agency (EASA) or Airbus's EASA Design Organization Approval (DOA). After the effective date of this AD, replace all the applicable MLG bogie beams with a new or serviceable part using a method approved by the Manager, International Branch, ANM-116, Transport Airplane Directorate, FAA; or EASA; or Airbus's EASA DOA. Accomplishing the actions specified in paragraph (k) of this AD terminates the requirements of this paragraph.

(1) At the applicable time specified in paragraphs (i)(1)(i), (i)(1)(ii), and (i)(1)(iii) of this AD.

(i) For Model A330-201, -202, -203, -223, -243 series airplanes, weight variant (WV)02x, WV05x (except WV058), and WV06x series: Before the accumulation of a life limit of 50,000 landings or 72,300 total flight hours, whichever occurs first from the first installation of a MLG bogie beam on the airplane.

(ii) For Model A330-201, -202, -203, -223, -243 WV058 series airplanes: Before the accumulation of a life limit of 50,000 landings or 57,900 total flight hours, whichever occurs first from the first installation of a MLG bogie beam on the airplane.

(iii) For Model A330-301, -302, -303, -321, -322, -323, -341, -342, -343 series airplanes, WV00x, WV01x, WV02x, and WV05x series: Before the accumulation of a life limit of 46,000 landings or 75,000 total flight hours, whichever occurs first from the first installation of a MLG bogie beam on the airplane.

(2) Within 6 months after January 30, 2013 (the effective date of AD 2012-25-12, Amendment 39-17293 (77 FR 75825, December 26, 2012).

(j) Retained Parts Installation Limitation, With New Terminating Action

This paragraph restates the requirements of paragraph (h) of AD 2012-25-12, Amendment 39-17293 (77 FR 75825, December 26, 2012), with new terminating action. For airplanes identified in paragraphs (c)(1) and (c)(3) of this AD, As of January 30, 2013 (the effective date of AD 2012-25-12), a MLG bogie beam having any part number identified in paragraph (i) of this AD, may be installed on an airplane, provided its life has not exceeded the life limit specified in paragraphs (i)(1)(i), (i)(1)(ii), and (i)(1)(iii) of this AD, and is replaced with a new or serviceable part before reaching the life limit specified in paragraphs (i)(1)(i), (i)(1)(ii), and (i)(1)(iii) of this AD. Accomplishing the actions specified in paragraph (k) of this AD terminates the requirements of this paragraph.

(k) New Maintenance or Inspection Program Revision

(1) Within 3 months after the effective date of this AD: Revise the maintenance or inspection program, as applicable, by incorporating the information in Airbus A330 ALS Part 1, “'Safe Life Airworthiness Limitation Items,” Revision 07, dated September 23, 2013; and variations to it listed in paragraphs (k)(1)(i) through (k)(1)(x), as applicable.

(i) Airbus A330 Variation to Revision 07 of ALS Part 1, “Safe Life Airworthiness Limitations Items (SL ALI),” dated September 24, 2013 (variations reference 0GVLG130005C0S, dated October 29, 2013).

(ii) Airbus A330, “Safe Life Airworthiness Limitations Items (SL ALI),” Variation 7.6, dated February 24, 2015.

(iii) Airbus A330, “Safe Life Airworthiness Limitations Items (SL ALI),” Variation 7.10, dated April 1, 2015.

(iv) Airbus A330, “Safe Life Airworthiness Limitations Items (SL ALI),” Variation 7.18, dated April 1, 2015.

(v) Airbus A330, “Safe Life Airworthiness Limitations Items (SL ALI),” Variation 7.19, dated June 8, 2015.

(vi) Airbus A330, “Safe Life Airworthiness Limitations Items (SL ALI),” Variation 7.20, dated August 28, 2015.

(vii) Airbus A330, “Safe Life Airworthiness Limitations Items (SL ALI),” Variation 7.21, dated September 14, 2015.

(viii) Airbus A330, “Safe Life Airworthiness Limitations Items (SL ALI),” Variation 7.22, dated June 8, 2015.

(ix) Airbus A330, “Safe Life Airworthiness Limitations Items (SL ALI),” Variation 7.23, dated August 31, 2015.

(x) Airbus A330, “Safe Life Airworthiness Limitations Items (SL ALI),” Variation 7.24, dated September 21, 2015.

(2) The initial compliance times for the actions specified Airbus A330 ALS Part 1, ”Safe Life Airworthiness Limitation Items,” Revision 07, dated September 23, 2013; and A330 Airbus Variations listed in paragraphs (k)(1)(i) through (k)(1)(x) as applicable, are at the times specified in Airbus A330 ALS Part 1, ”Safe Life Airworthiness Limitation Items,” Revision 07, dated September 23, 2013; and Airbus A330 Variations listed in paragraphs (k)(1)(i) through (k)(1)(x) as applicable, or within 90 days after the effective date of this AD, whichever occurs later. Accomplishing the actions specified in this paragraph terminates the requirements specified in paragraphs (g) through (j) of this AD.

(l) New No Alternative Actions or Intervals

After the maintenance or inspection program, as applicable, has been revised, as required by paragraph (k) of this AD, no alternative actions (e.g., inspections) or intervals may be used unless the actions or intervals are approved as an alternative method of compliance (AMOC) in accordance with the procedures specified in paragraph (m) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(n) Related Information

(1) Refer to Mandatory Continuing Airworthiness Information (MCAI) EASA Airworthiness Directive 2014-0009, dated January 8, 2014, for related information. This MCAI may be found in the AD docket on the Internet at http://www.regulations.gov by searching for and locating Docket No. FAA-2015-8428.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on December 23, 2015.
John P. Piccola, Jr.,
Acting Manager, Transport Airplane Directorate, Aircraft Certification Service.

[FR Doc. 2015-33173 Filed 1-12-16; 8:45 am]

BILLING CODE 4910-13-P